DEPARTMENT OF ENERGY

Federal Energy Regulatory Commission

[Docket Nos. EG09-19-000; EG09-20-000; EG09-23-000; EG09-24-000; EG09-25-000; EG09-28-000; EG09-29-000; EG09-30-000; EG09-31-000; EG09-32-000; EG09-33-000]

Hay Canyon Wind LLC; PowerSmith Cogeneration Project, LP; TXC Green Power LLC; Evergreen Wind Power V, LLC; EcoGrove Wind, LLC; RPL Holdings, Inc.; Reliant Energy Florida, LLC; High Lonesome Mesa, LLC; Saranac Power Partners, L.P.; EC&R Panther Creek Wind Farm III, LLC; Windy Flats Partners, LLC; Notice of Effectiveness of Exempt Wholesale Generator Status

May 27, 2009.

Take notice that during the month of April 2009, the status of the above-captioned entities as Exempt Wholesale Generators Companies became effective by operation of the Commission's regulations 18 CFR 366.7(a), except for Docket Nos. EG09-19-000 and EG09-20-000, which became effective in February 2009; and Docket Nos. EG09-23-000, EG09-24-000, and EG09-25-000, which became effective in March 2009.

Kimberly D. Bose,
Secretary.

[FR Doc. E9-12864 Filed 6-2-09; 8:45 am]

BILLING CODE 6717-01-P